NATIONAL SCIENCE FOUNDATION

Proposal Review Panel for Computing Communication Foundations; Notice of Meeting

In accordance with the Federal Advisory Committee Act (Pub. L. 92-463, as amended), the National Science Foundation announces the following meeting:

NAME: Site Visit, Proposal Panel Review for Expeditions in Computing Program (#1192).

DATE/TIME:

October 15, 2012 7 p.m.-9 p.m.

October 16, 2012 8 a.m.-8 p.m.

October 17, 2012 8:30 a.m.-3 p.m.

PLACE: University of Minnesota—Twin Cities, Minneapolis, MN.

TYPE OF MEETING: Partial Closed.

CONTACT PERSON: Vasant G. Honavar, National Science Foundation, 4201 Wilson Boulevard, Room 1125, Arlington, VA 22230. Telephone: (703) 292-7129.

PURPOSE OF MEETING: To assess the progress of the EIC Award: 1029711, “Collaborative Research: Mining Climate and Ecosystem Data”, and to provide advice and recommendations concerning further NSF support for the Center.

AGENDA:

Monday, October 15, 2012

7 p.m. to 9 p.m. Closed

Site Team and NSF Staff meets to discuss Site Visit materials, review process and charge.

Tuesday, October 16, 2012

8 a.m. to 1 p.m. to Open

Presentations by Awardee Institution, faculty staff and students, to Site Team and NSF Staff. Discussions and question and answer sessions.

1 p.m.-8 p.m. Closed

Draft report on education and research activities.

Wednesday, October 17, 2012

8:30 a.m.-noon Open

Response presentations by Awardee Institution faculty staff to Site Team and NSF Staff. Discussions and question and answer sessions.

Noon to 3 p.m. Closed

Complete written site visit report with preliminary recommendations.

Reason for Closing: The proposals being reviewed include information of a proprietary or confidential nature, including technical information; financial data, such as salaries; and personal information concerning individuals associated with the proposals. These matters are exempt under 5 U.S.C. 552b(c), (4) and (6) of the Government in the Sunshine Act.

Dated: September 28, 2012.
Susanne Bolton,
Committee Management Officer.

[FR Doc. 2012-24309 Filed 10-2-12; 8:45 am]

BILLING CODE 7555-01-P